DEPARTMENT OF LABOR

Employment and Training Administration

[TA-W-74,357]

Cinram Distribution, LLC, a Subsidiary of Cinram International, Simi Valley Distribution Center, Including On-Site Leased Workers From Labor Ready Southwest, Inc. and Select Remedy Staffing Services, Simi Valley, CA; Amended Certification Regarding Eligibility To Apply for Worker Adjustment Assistance

In accordance with Section 223 of the Trade Act of 1974, as amended (“Act”), 19 U.S.C. 2273, the Department of Labor issued a Certification of Eligibility to Apply for Worker Adjustment Assistance on August 24, 2010, applicable to workers of Cinram Distribution, LLC, a subsidiary of Cinram International, Simi Valley Distribution Center, include on-site leased workers from Labor Ready Southwest, Inc., and Select Remedy Staffing Services, Simi Valley, California. The notice was published in the Federal Register on September 15, 2010 (75 FR 51643).

At the request of a petitioner, the Department reviewed the certification for workers of the subject firm. The workers are engaged in activities related to the supply of DVD, BluRay, and CD distribution services.

Upon review of the case investigation regarding the subject firm, the investigation revealed that an earlier petition was submitted on behalf of the workers of Cinram Distribution, LLC, Simi Valley, California, dated August 19, 2009. However, that petition was not properly instituted.

In order to include workers in the certified worker group who were separated before July 7, 2009, the Department is amending the impact date for TA-W-74,357 to August 19, 2008, one year before the petition date of August 19, 2009. The investigation revealed that worker separations between August 19, 2008 and July 7, 2009 were attributable to the increased imports that were the basis for certification.

The amended notice applicable to TA-W-74,357 is hereby issued as follows:

“All workers of Cinram Distribution, LLC, a subsidiary of Cinram International, including on-site leased workers from Labor Ready Southwest, Inc., and Select Remedy Staffing Services, Simi Valley, California, who became totally or partially separated from employment on or after August 19, 2008, through August 24, 2012, and all workers in the group threatened with total or partial separation from employment on the date of certification through two years from the date of certification, are eligible to apply for adjustment assistance under Chapter 2 of Title II of the Trade Act of 1974, as amended.”

Signed in Washington, DC, this 4th day of January 2011.
Michael W. Jaffe,
Certifying Officer, Office of Trade Adjustment Assistance.

[FR Doc. 2011-747 Filed 1-13-11; 8:45 am]

BILLING CODE 4510-FN-P